DEPARTMENT OF AGRICULTURE

Food and Nutrition Service

Agency Information Collection Activities: Proposed Collection; Comments Request—Assessment of the Barriers That Constrain the Adequacy of Supplemental Nutrition Assistance Program (SNAP) Allotments

AGENCY: Food and Nutrition Service (FNS), USDA.

ACTION: Notice.

SUMMARY: In accordance with the Paperwork Reduction Act of 1995, this notice invites the public and other public agencies to comment on this proposed information collection. This is a new collection for the purpose of assessing the individual, household, and the environmental factors that limit the adequacy of the SNAP allotment.

DATES: Written comments must be received on or before December 12, 2016.

ADDRESSES: Comments may be sent to: Rosemarie Downer, Food and Nutrition Service/U.S. Department of Agriculture, 3101 Park Center Drive, Room 1014, Alexandria, VA 22302. Comments may also be submitted via fax to the attention of (703) 305-2576 at (703) 305-2129 or via email to rosemarie.downer@fns.usda.gov. Comments will also be accepted through the Federal eRulemaking Portal. Go to http://www.regulations.gov and follow the online instructions for submitting comments electronically.

All written comments will be open for public inspection at the Office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collected should be directed to Rosemarie Downer at (703) 305-2129.

SUPPLEMENTARY INFORMATION: Comments are invited on: (a) Whether the proposed collection of information is necessary for the proper performance of the functions of the agency, including whether the information shall have practical utility; (b) the accuracy of the agency's estimate of the burden on the proposed collection of information, including the validity of the methodology and assumptions that were used; (c) ways to enhance the quality, utility, and clarity of the information collected; and (d) ways to minimize the burden of the collection of information on those who are to respond, including use of appropriate automated, electronic, mechanical, or other technological collection techniques or other forms of information technology.

Title: Assessment of the Barriers that Constrain the Adequacy of Supplemental Nutrition Assistance Program (SNAP) Allotments.

OMB Number: 0584—NEW.

Expiration Date: Not Yet Determined.

Type of Request: New collection.

Abstract: The Supplemental Nutrition Assistance Program (SNAP) is intended to alleviate food insecurity among low-income households. Towards this end, it provides eligible low-income households with a monthly benefit amount (SNAP allotment) based on household size and net income to purchase foods from authorized retailers that can be prepared and eaten at home. SNAP benefits are based on the Thrifty Food Plan, which is intended to be a minimal-cost nutritionally adequate diet, but has been the subject of significant criticism for being inadequate. In 2015, about 53 percent of SNAP households experienced food insecurity, with about 23 percent of SNAP households experiencing very low food security (or severe food insecurity). While participation in SNAP for about 6 months is associated with decreased food insecurity, it does not guarantee food security or a healthy diet.

The Institute of Medicine (IOM) has examined the current SNAP benefit and has raised several concerns about its adequacy. The IOM committee recommended that FNS assess the individual, household, and the environmental factors that limit the adequacy of the current SNAP allotment. To this end, FNS is conducting a survey followed by in-depth interviews with SNAP participants. The data collection activities to be undertaken subject to this notice include:

• Food and Your Household Survey: SNAP participants selected for the study will be asked questions about their food budgets, shopping patterns, knowledge and attitudes about healthy diets, barriers to purchasing foods to ensure they eat a healthy diet, coping strategies when resources are limited, participation in nutrition assistance programs, and household characteristics. First, a hard-copy survey will be mailed to SNAP participants, and they will be asked to return it in a postage-paid envelope. Those with bad addresses and those who do not respond to the mailing will be given an option to complete a telephone interview.

• In-depth interviews. To supplement the survey data, in-person in-depth interviews will be conducted with 120 SNAP participants. Interviewees will be asked open-ended questions about their food budgets, choices, options, preferences, their perceptions of a healthy diet, the extent to which they provide and receive food assistance from others in their social networks, and why they shop for food in specific locations. They will also be asked to narrate a “tour” of their kitchen and eating spaces. In-depth interview respondents will be chosen from among survey respondents based on their representation of the following analytic categories of interest: Food security, rural-urban location, geographical region, and phase of the benefit month.

Affected Public: Respondent groups identified include individuals/households (SNAP participants).

Estimated Number of Respondents: The total sample size for this collection is 6,983 individuals/households who will be contacted. Out of those, the total number of respondents who will move on to participate in part or whole is 4,800. This includes 4,800 SNAP participants for the Food and Your Household survey (with an 80 percent response rate for eligible respondents) and 120 SNAP participants who will complete the in-depth interviews (with an 80 percent response rate for eligible respondents) in addition to the SNAP survey.

Estimated Number of Responses per Respondent: Participants in the survey-only group will respond one time and those in the in-depth interview group will respond two times: once to the survey and once to the in-depth interview.

Estimated Total Annual Responses: 4,920.

Estimated Time per Response: The surveys will take an average of 30 minutes (.5 hours). In-depth interviews will take an average of 75 minutes (1.25 hours).

Estimated Total Annual Burden on Respondents: 2,691.34 hours.

See the table below for estimated total annual burden for each type of respondent.

Respondent | Number of respondents | Number of responses per respondent | Total annual responses | Average burden per response (in hours) | Total burden (in hours)
SNAP Client Survey
Completed | 4,800 | 1 | 4,800 | 0.500 | 2,400.00
Attempted | 1,793 | 1 | 1,793 | 0.067 | 120.13
Survey Total | 6,593 |  | 6,593 |  | 2,520.13
In-depth Interview with SNAP Clients
Recruitment Screener:
Completed | 216 | 1 | 216 | 0.083 | 17.93
Attempted | 24 | 1 | 24 | 0.033 | 0.79
In-depth Interview:
Completed | 120 | 1 | 120 | 1.250 | 150.00
Attempted | 30 | 1 | 30 | 0.083 | 2.49
In-depth Interviews Total | 390 |  | 390 |  | 171.21
Total | 6,983 |  | 6,983 |  | 2.691.34

Dated: October 3, 2016.
Telora T. Dean,
Acting Administrator, Food and Nutrition Service.

[FR Doc. 2016-24478 Filed 10-7-16; 8:45 am]

BILLING CODE 3410-30-P